DEPARTMENT OF HEALTH AND HUMAN SERVICES

National Institutes of Health

Office of the Director Amended Notice of Meeting

Notice is hereby given of a change in the meeting of the Advisory Committee to the Director, National Institutes of Health (NIH), June 9, 2011, 9:30 a.m. to June 10, 2011, 12 p.m., 31 Center Drive, Building 31, C-Wing, Conference Room 6, Bethesda, MD, 20892 which was published in the Federal Register on May 13, 2011, 76 FR 28055.

The open sessions of the Advisory Committee to the Director, NIH, will be held on June 9, 2011, 9:30 a.m. to 3:45 p.m. and June 10, 2011, 8:30 a.m. to 12 p.m. The closed session of the Advisory Committee to the Director, NIH, will be held on June 9, 2011, 4 p.m. to 5 p.m.. The meeting location remains the same.

Dated: May 24, 2011.
Anna P. Snouffer,
Deputy Director, Office of Federal Advisory Committee Policy.

[FR Doc. 2011-13353 Filed 5-27-11; 8:45 am]

BILLING CODE 4140-01-P